FEDERAL MARITIME COMMISSION

[Docket No. 16-17]

Notice of Filing of Complaint and Assignment

Connie Lane Christy and Christy Collection International Inc. on behalf of the Annie Grace Foundation for the Children of Bali Indonesia v. Air 7 Seas Transport Logistics Inc.

Notice is given that a Complaint has been filed with the Federal Maritime Commission (Commission) by Connie Lane Christy and Christy Collection International Inc. on behalf of The Annie Grace Foundation for the Children of Bali Indonesia, hereinafter “Complainants,” against Air 7 Seas Transport Logistics Inc., hereinafter “Respondent.” Complainants alleges that Respondent is an ocean freight forwarder located in California.

Complainant alleges that Respondent has violated the Shipping Act of 1984 in connection with a shipment of personal effects shipped from Charleston, South Carolina to Bali, Indonesia. Complainants allege they entered into a contract for “door to door” service, but such service was not provided, the goods were never delivered and are now “lost”. Complainant seeks reparations of $520,000 “for the loss of goods, and the loss of the efforts involved in forming this Foundation.”

Complainants allege that “the service performed as an Ocean Freight Forwarder were in violation of definitions set forth in that Act.” The complainant requests “the courts judgement in this case.”

The full text of the complaint can be found in the Commission's Electronic Reading Room at www.fmc.gov/16-17.

This proceeding has been assigned to the Office of Administrative Law Judges. The initial decision of the presiding officer in this proceeding shall be issued by November 21, 2017 and the final decision of the Commission shall be issued by June 4, 2018.

Rachel E. Dickon,
Assistant Secretary.

[FR Doc. 2016-28474 Filed 11-25-16; 8:45 am]

BILLING CODE 6731-AA-P